FEDERAL DEPOSIT INSURANCE CORPORATION

Notice of Agency Meeting

Pursuant to the provisions of the “Government in the Sunshine Act” (5 U.S.C. 552b), notice is hereby given that at 10 a.m. on Tuesday, June 23, 2009, the Board of Directors of the Federal Deposit Insurance Corporation met in open session to consider the following matters:

Summary Agenda

Disposition of minutes of previous Board of Directors' Meetings.

Summary reports, status reports, reports of the Office of Inspector General, and reports of actions taken pursuant to authority delegated by the Board of Directors.

Memorandum and resolution re: Interagency Interim Rule on Capital Maintenance: Residential Mortgage Loans Modified Pursuant to the Making Home Affordable Program of the U.S. Department of Treasury.

Memorandum and resolution re: Notice of Proposed Rulemaking regarding Proposed Interagency Guidance—Funding and Liquidity Risk Management.

Discussion Agenda

Memorandum and resolution re: Notice of Proposed Rulemaking on the Transaction Account Guarantee Program.

Memorandum and resolution re: Joint Notice of Proposed Rulemaking: Amendment to the Community Reinvestment Act Regulation.

Memorandum and resolution re: Final Rule on Annual Audit and Reporting Requirements (Part 363) and Related Technical Amendment to (Part 308, Subpart U).

In calling the meeting, the Board determined, on motion of Vice Chairman Martin J. Gruenberg, seconded by Director Thomas J. Curry (Appointive), and concurred in by Director John C. Dugan (Director, Comptroller of the Currency), Director John E. Bowman (Acting Director, Office of Thrift Supervision), and Chairman Sheila C. Bair, that Corporation business required its consideration of the matters on less than seven days' notice to the public; and that no earlier notice of the meeting than that previously provided on June 19, 2009, was practicable.

The meeting was held in the Board Room of the FDIC Building located at 550—17th Street, NW., Washington, DC.

Dated: June 23, 2009.
Federal Deposit Insurance Corporation.
Valerie J. Best,
Assistant Executive Secretary.

[FR Doc. E9-15375 Filed 6-25-09; 11:15 am]

BILLING CODE; P